DEPARTMENT OF DEFENSE

Office of the Secretary

[Docket ID: DoD-2008-OS-0129]

Privacy Act of 1974; System of Records

AGENCY: Defense Logistics Agency, DoD.

ACTION: Notice to amend a system of records.

SUMMARY: The Defense Logistics Agency is amending a system of records notice in its existing inventory of record systems subject to the Privacy Act of 1974, (5 U.S.C. 552a), as amended.

DATES: This proposed action will be effective without further notice on November 24, 2008 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: October 15, 2008.
Patricia L. Toppings,
OSD Federal Register Liaison Officer, Department of Defense.

S100.60 GC

System Name:

Claims and Litigation (November 16, 2004, 69 FR 67112).

Changes:

Change system ID to “S170.05.”

System Name:

Delete entry and replace with “Claims and Litigation Files.”

* * * * *

Categories of Records in the System:

Delete entry and replace with “Records collected and maintained include individual's name, home or business address, telephone numbers, details of the claim or litigation, and settlement, resolution, or disposition documents.”

Authority for Maintenance of the System:

Delete entry and replace with “5 U.S.C. 301, Departmental Regulations; 10 U.S.C. 133, Under Secretary of Defense for Acquisition, Technology, and Logistics; 10 U.S.C. 2386, Copyrights, patents, designs, etc.; acquisition; 28 U.S.C. 514, Legal services on pending claims in departments and agencies; 28 U.S.C. 1498, Patents and Copyright Cases; 31 U.S.C., Chapter 37, Claims; 35 U.S.C., Chap. 28, Infringement of Patent.”

Purpose(s):

Delete entry and replace with “To represent DLA in claims and litigation.”

* * * * *

Retention and Disposal:

Delete entry and replace with “Claim records are destroyed 6 years and 3 months after final settlement. Litigation files are destroyed 6 years after case closing except that patent infringement litigation files are destroyed after 26 years and copyright infringement files are destroyed after 56 years.”

* * * * *

S170.05

System Name:

Claims and Litigation Files.

System Location:

Office of the General Counsel, Headquarters Defense Logistics Agency, 8725 John J. Kingman Road, Suite 1644, Fort Belvoir, VA 22060-6221, and the General Counsel Offices at the Defense Logistics Agency Field Activities. Addresses may be obtained from the System Manager.

Categories of Individuals Covered by the System:

Individuals or entities who have filed claims or litigation against the Defense Logistics Agency (DLA) or against whom DLA has initiated such actions. The system may also include claims and litigation filed against or on behalf of other federal agencies that are serviced by or receive legal support from DLA.

Categories of Records in the System:

Records collected and maintained include individual's name, home or business address, telephone numbers, details of the claim or litigation, and settlement, resolution, or disposition documents.

Authority for Maintenance of the System:

5 U.S.C. 301, Departmental Regulations; 10 U.S.C. 133, Under Secretary of Defense for Acquisition, Technology, and Logistics; 10 U.S.C. 2386, Copyrights, patents, designs, etc.; acquisition; 28 U.S.C. 514, Legal services on pending claims in departments and agencies; 28 U.S.C. 1498, Patents and Copyright Cases; 31 U.S.C., Chapter 37, Claims; 35 U.S.C., Chap. 28, Infringement of Patent.

Purpose(s):

To represent DLA in claims and litigation.

Routine Uses of Records Maintained in the System, Including Categories of Users and the Purposes of Such Uses:

In addition to those disclosures generally permitted under 5 U.S.C. 552a(b) of the Privacy Act, these records or information contained therein may specifically be disclosed outside the DOD as a routine use pursuant to 5 U.S.C. 552a(b)(3) as follows:

To Federal, state, and local agencies authorized to investigate, audit, act on, negotiate, adjudicate, represent, or settle claims or issues arising from litigation.

To agencies, entities, or individuals who have or are expected to have information concerning the claims or litigation at issue.

To the Internal Revenue Service for address verification or for matters under their jurisdiction.

To Federal, state, and local government agencies or other parties involved in approving, licensing, auditing, or otherwise having an identified interest in intellectual property issues.

To defense contractors who have an identified interest in intellectual property at issue.

The DOD “Blanket Routine Uses” apply to this system of records.

Policies and Practices for Storing, Retrieving, Accessing, Retaining, and Disposing of Records in the System:

Storage:

Records may be stored on paper and on electronic storage media.

Retrievability:

Records are retrieved by individual's name.

Safeguards:

Records are maintained in areas accessible only to DLA personnel who must use the records to perform their duties. The computer files are password protected with access restricted to authorized users. Records are secured in locked or guarded buildings, locked offices, or locked cabinets during non-duty hours.

Retention and disposal:

Claim records are destroyed 6 years and 3 months after final settlement. Litigation files are destroyed 6 years after case closing except that patent infringement litigation files are destroyed after 26 years and copyright infringement files are destroyed after 56 years.

System Manager(s) and Address:

General Counsel, Headquarters, Defense Logistics Agency, 8725 John J. Kingman Road, Suite 1644, Fort Belvoir, VA 22060-6221 and the General Counsel at the Defense Logistics Agency Field Activity.

Notification Procedure:

Individuals seeking to determine whether information about them is contained in this system should address written inquiries to the Privacy Act Office, Headquarters, Defense Logistics Agency, ATTN: DGA, 8725 John J. Kingman Road, Suite 1644, Fort Belvoir, VA 22060-6221.

Individuals must provide name of litigant, year of incident, and should contain court case number in order to ensure proper retrieval in those situations where a single litigant has more than one case with the Agency.

Record Access Procedures:

Individuals seeking access to information about them contained in this system should address written inquiries to the Privacy Act Office, Headquarters, Defense Logistics Agency, ATTN: DGA, 8725 John J. Kingman Road, Suite 1644, Fort Belvoir, VA 22060-6221.

Individuals must provide name of litigant, year of incident, and should contain court case number in order to ensure proper retrieval in those situations where a single litigant has more than one case with the Agency.

Contesting Record Procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Exemptions claimed for the system:

None.

[FR Doc. E8-25274 Filed 10-22-08; 8:45 am]

BILLING CODE 5001-06-P